ENVIRONMENTAL PROTECTION AGENCY

40 CFR Part 63

[EPA-HQ-OAR-2011-0797; FRL-9619-5]

RIN 2060-AQ-92

National Emission Standards for Hazardous Air Pollutants: Primary Aluminum Reduction Plants; Extension of Comment Period

AGENCY: Environmental Protection Agency (EPA).

ACTION: Proposed rule; extension of public comment period.

SUMMARY: The EPA is announcing that the period for providing public comments on the December 6, 2011, proposed rule titled, “National Emission Standards for Hazardous Air Pollutants: Primary Aluminum Reduction Plants” is being extended for 12 days.

DATES: Comments. The public comment period for the proposed rule published December 6, 2011, (76 FR 76260) is being extended for 12 days to February 1, 2012, in order to provide the public additional time to submit comments and supporting information.

ADDRESSES: Comments. Written comments on the proposed rule may be submitted to EPA electronically, by mail, by facsimile or through hand delivery/courier. Please refer to the proposal for the addresses and detailed instructions.

Docket. Publicly available documents relevant to this action are available for public inspection either electronically at http://www.regulations.gov or in hard copy at the EPA Docket Center, Room 3334, 1301 Constitution Avenue NW., Washington, DC. The Public Reading Room is open from 8:30 a.m. to 4:30 p.m., Monday through Friday, excluding legal holidays. A reasonable fee may be charged for copying.

World Wide Web. The EPA Web site for this rulemaking is at: http://www.epa.gov/ttn/atw/alum/alumpg.html.

FOR FURTHER INFORMATION CONTACT: Mr. David Putney, Metals and Inorganic Chemicals Group (D243-02), Sector Policies and Programs Division, Office of Air Quality Planning and Standards, U.S. Environmental Protection Agency, Research Triangle Park, North Carolina 27711; Telephone number: (919) 541-2016; Fax number (919) 541-3207; Email address: putney.david@epa.gov.

SUPPLEMENTARY INFORMATION:

Comment Period

Due to requests received from industry to extend the public comment period, the EPA is extending the public comment period for an additional 12 days. Therefore, the public comment period will end on February 1, 2012, rather than January 20, 2012.

How can I get copies of this document and other related information?

The EPA has established the official public docket No. EPA-HQ-OAR-2011-0797. The EPA has also developed a Web site for the proposed rulemaking at the addresses given above.

Dated: January 12, 2012.
Gina McCarthy,
Assistant Administrator.

[FR Doc. 2012-962 Filed 1-18-12; 8:45 am]

BILLING CODE 6560-50-P